DEPARTMENT OF THE INTERIOR

Bureau of Land Management

[LLCON03000 L16100000.DQ0000]

Notice of Availability of the Proposed Resource Management Plan and Final Environmental Impact Statement for the Grand Junction Field Office, Colorado

AGENCY: Bureau of Land Management, Interior.

ACTION: Notice of availability.

SUMMARY: In accordance with the National Environmental Policy Act of 1969, as amended, and the Federal Land Policy and Management Act of 1976, as amended, the Bureau of Land Management (BLM) has prepared a Proposed Resource Management Plan (RMP) and Final Environmental Impact Statement (EIS) for the Grand Junction Field Office and by this notice is announcing its availability.

DATES: The BLM planning regulations state that any person who meets the conditions as described in the regulations may protest the BLM's Proposed RMP and Final EIS. A person who meets the conditions and files a protest must file the protest within 30 days of the date that the Environmental Protection Agency publishes its notice of availability in the Federal Register.

ADDRESSES: Copies of the Grand Junction Field Office Proposed RMP and Final EIS were sent to affected Federal, State, and local government agencies and to other stakeholders and tribal governments. Copies of the Proposed RMP and Final EIS are available for public inspection at the Grand Junction Field Office, 2815 H Road, Grand Junction, CO 81506; Mesa County libraries in Grand Junction, Collbran, De Beque, Fruita and Gateway. Interested persons may also review the Proposed RMP and Final EIS on the Internet at www.blm.gov/co/st/en/fo/gjfo.html. All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Christina Stark, Planning and Environmental Coordinator; telephone 970-244-3027; 2815 H Road, Grand Junction, CO, 81506; email BLM_CO_GJ_PUBLIC_COMMENTS@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: Lands and Federal mineral estate managed by the Grand Junction Field Office within this RMP revision extend across most of Mesa County and parts of Garfield, Montrose and Rio Blanco counties. Management decisions outlined in this RMP revision apply to approximately 1,061,400 acres of BLM-managed surface lands and Federal mineral estate and to approximately 169,900 acres of Federal mineral split-estate. When approved, this RMP will replace the 1987 Grand Junction Resource Area RMP.

The public comment period on the Draft RMP and Draft EIS began on January 14, 2013, and ended June 24, 2013, which included a 60-day extension in response to requests from the public. The total comment period encompassed 162 days. The BLM developed the Proposed RMP and Final EIS based on public comments on the Draft RMP and Draft EIS in addition to cooperating agency reviews, resource advisory council reviews, U. S. Fish and Wildlife Service consultation, and extensive internal BLM reviews. The BLM carefully considered and incorporated comments into the Proposed RMP as appropriate. Public comments assisted in the development of the Proposed RMP and resulted in the addition of clarifying text, but did not constitute a substantial change in the proposed land use plan decisions that would require a supplement to the Draft EIS.

The Proposed RMP and Final EIS describes and analyzes four management alternatives, each of which include objectives and management actions to address new management challenges and issues.

Alternative A is the no action alternative and is a continuation of the current management direction and prevailing conditions based on the existing 1987 Grand Junction Resource Area RMP and amendments.

Alternative B (The Proposed RMP) seeks to allocate public land resources among competing human interests and land uses, with the conservation of natural and cultural resource values. Alternative B carries forward the same theme it had in the Draft RMP and Draft EIS, but includes elements of the other alternatives analyzed in the Draft RMP and Draft EIS.

Alternative C emphasizes improving, rehabilitating and restoring resources; and sustaining the ecological integrity of habitats for all priority plant, wildlife and fish species, particularly the habitats needed to conserve and recover federally listed, proposed, or candidate threatened and endangered plant and animal species.

Alternative D emphasizes active management for natural resources, commodity production, and public use opportunities by allowing a mix of multiple use opportunities that target social and economic outcomes, while protecting land health. Management direction would recognize and expand existing uses, and accommodate new uses to the greatest extent possible.

The Proposed RMP would provide comprehensive, long-range decisions for the use and management of resources in the planning area administered by the Grand Junction Field Office, focusing on the principles of multiple use and sustained yield.

The Proposed RMP includes: Goals, objectives, management actions, allowable use and implementation decisions to ensure future BLM management in support of 13 areas of critical environmental concern, five special recreation management areas, six extensive recreation management areas, four wilderness study areas, one national trail management corridor, and one segment found suitable for inclusion in the National Wild and Scenic River System. Maps are included in the Proposed RMP/FEIS to illustrate the Proposed RMP as well as the other alternatives considered in the Final EIS. Through the Wild and Scenic River study process, the BLM inventoried 514 miles and 114 stream segments, found 415 miles and 100 stream segments ineligible, and found 99 miles and 14 stream segments eligible, of which 10.38 miles of 1 stream are identified as suitable in the Proposed RMP. Three areas covering 44,100 acres located in the southern portion of the field office would be managed to protect lands with wilderness characteristics. Protective management of the areas would vary; however, all of the areas would be managed as right-of-way exclusion, no leasing for fluid minerals, no surface occupancy (non-fluid minerals), closed to non-energy leasables, closed to mineral material disposal, and Visual Resource Management Class II.

While the RMP proposes some conservation management measures for the Greater Sage-grouse habitat, the Northwest Colorado Greater Sage-Grouse Plan Amendment and EIS will fully analyze applicable Greater-Sage grouse conservation measures, consistent with BLM Instruction Memorandum No. 2012-044. The BLM expects to make a comprehensive set of decisions for managing Greater Sage-Grouse on lands administered by the Grand Junction Field Office in the Record of Decision for the Northwest Colorado Greater Sage-Grouse Plan Amendment and EIS, which will update this proposed RMP.

Instructions for filing a protest with the Director of the BLM regarding the Proposed RMP and FEIS may be found in the “Dear Reader” Letter of the Grand Junction Field Office Proposed RMP and Final EIS, and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov. Unlike land use planning decisions, implementation decisions included in this Proposed RMP and Final EIS are not subject to protest under the BLM planning regulations. Implementation decisions are subject to an administrative review process through appeals to the Office of Hearings and Appeals, Interior Board of Land Appeals, pursuant to 43 CFR part 4. Implementation decisions generally constitute the BLM's final approval allowing on-the-ground actions to proceed. Where implementation decisions are made as part of the land use planning process, they are still subject to the appeals process or other administrative review as prescribed by specific resource program regulations once the BLM resolves the protests to land use planning decisions and issues an Approved RMP and ROD. Implementation decisions made in the plan that may be appealed to the Office of Hearing and Appeals are identified in the Proposed RMP and Final EIS. They will also be included in the ROD and Approved RMP.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5

Ruth Welch,
BLM Colorado State Director.

[FR Doc. 2015-08187 Filed 4-10-15; 8:45 am]

BILLING CODE 4310-JB-P